DEPARTMENT OF THE INTERIOR

Bureau of Land Management

[ID-957-1430-BJ]

Idaho: Filing of Plats of Survey

AGENCY: Bureau of Land Management, Interior.

ACTION: Notice.

SUMMARY: The plats of the following described lands were officially filed in the Idaho State Office, Bureau of Land Management, Boise, Idaho, effective 9 a.m., on the dates specified: The plat constituting the entire survey record of the dependent resurvey of a portion of the subdivisional lines, and the subdivision of section 21, in T. 14 S., R. 27 E., Boise Meridian, Idaho, was accepted May 23, 2002. The plat was prepared to meet certain administrative needs of the Bureau of Land Management.

The plat representing the dependent resurvey of a portion of the subdivisional lines, the subdivision of sections 10, 14, and 15, and the survey of the 1999-2000 meanders of the Blackfoot River in sections 10, 11, and 14, the North Boundary of the Fort Hall Indian Reservation in sections 10, 11, and 14, and portions of the 1999-2000 median line of the Blackfoot River in sections 10 and 11, in T. 3 S., R. 35 E., Boise Meridian, Idaho, was accepted May 24, 2002. The plat was prepared to meet certain administrative needs of the Bureau of Indian Affairs.

The plat representing the dependent resurvey of portions of the north boundary, portions of the subdivisional lines, and portions of the subdivision of section 2, in T. 12 S., R. 19 E., Boise Meridian, Idaho, was accepted May 31, 2002. The plat was prepared to meet certain administrative needs of the Bureau of Land Management.

The plat representing the dependent resurvey of portions of the north and west boundaries, and of the subdivisional lines, and the subdivision of section 3, in T. 7 N., R. 39 E., and the dependent resurvey of portions of the east and south boundaries, in T. 8 N., R. 38 E., Boise Meridian, Idaho, were accepted June 7, 2002. The plats were prepared to meet certain administrative needs of the Bureau of Land Management.

The plat representing the corrective dependent resurvey of portions of the north and west boundaries, of the subdivisional lines, and of the subdivision of section 6, and the dependent resurvey of a portion of the subdivisional lines, in T. 12 S., R. 22 E., Boise Meridian, Idaho, was accepted June 12, 2002. The plat was prepared to meet certain administrative needs of the Bureau of Land Management.

The plat representing the dependent resurvey of a portion of the west boundary and subdivisional lines, and the subdivision of section 7, in T. 3 S., R. 5 E., Boise Meridian, Idaho, was accepted June 12, 2002. The plat was prepared to meet certain administrative needs of the Bureau of Land Management.

The supplemental plat was prepared to correct certain lotting on the plat accepted December 21, 2001, in T. 4 S., R. 35 E., Boise Meridian, Idaho, was accepted June 20, 2002. The plat was prepared to meet certain administrative needs of the Bureau of Indian Affairs.

The plats of the following described lands, accepted for the Director on the dates specified, are pending official filing in the Idaho State Office, Bureau of Land Management, Boise, Idaho:

The plat representing the dependent resurvey of portions of the west boundary and subdivisional lines, the subdivision of section 30, the metes-and-bounds survey of the center line strip of land in section 30, and the metes-and-bounds survey of parcels A, C, and D in section 30, in T. 3 N., R. 4 E., Boise Meridian, Idaho, was accepted November 30, 2001. The plat was prepared to meet certain administrative needs of the Bureau of Land Management.

The plat representing the dependent resurvey of a portion of the subdivision of section 20, and the survey of the 2001 meanders of Crow Island and two unnamed islands in the Snake River, in T. 7 N., R. 5 W., Boise Meridian, Idaho, was accepted December 7, 2001. The plat was prepared to meet certain administrative needs of the Bureau of Land Management.

The plat representing the dependent resurvey of portions of the 5½ Standard Parallel North, on the south boundary of Township 26 North, Range 1 East, the subdivisional lines, the boundaries of certain mineral and segregation surveys in sections 11, 12, and 14, the record meanders of the Salmon River in sections 2 and 11, and the subdivision of section 11, and the further subdivision of section 11, and subdivision of section 2, and the survey of a portion of the 2000 meanders of the Salmon River in sections 2 and 11, and the Salmon River Scenic Easement boundary line through the S1/2 of the SE1/4 of the NW1/4 of section 2, in T. 25 N., R. 1 E., Boise Meridian, Idaho, was accepted May 15, 2002.

The plat was prepared to meet certain administrative needs the Bureau of Land Management. The plats representing the dependent resurvey and corrective dependent resurvey of a portion of the subdivisional lines and subdivision of section lines in section 7, and the subdivision of sections 19 and 30, in T. 5 N., R. 1 E., Boise Meridian, Idaho, and the plat representing the corrective dependent resurvey of a portion of the Boise Meridian (east boundary), and the dependent resurvey of a portion of the subdivisional lines, and the subdivision of sections 24 and 25, in T. 5 N., R. 1 W., Boise Meridian, Idaho, were accepted May 31, 2002. The plats were prepared to meet certain administrative needs of the Bureau of Land Management.

The plat representing the entire survey record of the dependent resurvey of a portion of the 1910 meander lines of the right bank of the South Fork of the Payette River, and the metes-and-bounds survey of lot 10, in section 20, in T. 9 N., R. 4 E., Boise Meridian, Idaho, was accepted June 14, 2002. The plat was prepared to meet certain administrative needs of the Bureau of Land Management.

FOR FURTHER INFORMATION CONTACT: Duane E. Olsen, Chief, Cadastral Survey, Idaho State Office, Bureau of Land Management, 1387 South Vinnell Way, Boise, Idaho, 83709-1657, 208-373-3980.

Dated: June 28, 2002.
Duane E. Olsen,
Chief Cadastral Surveyor for Idaho.

[FR Doc. 02-17786 Filed 7-15-02; 8:45 am]

BILLING CODE 4310-GG-P